DEPARTMENT OF DEFENSE

Defense Acquisition Regulations System

48 CFR Part 252

Defense Federal Acquisition Regulation Supplement; Technical Amendments

AGENCY: Defense Acquisition Regulations System, Department of Defense (DoD).

ACTION: Final rule.

SUMMARY: DoD is making technical amendments to the Defense Federal Acquisition Regulation Supplement (DFARS) to correct the clause list and associated clause dates in the clause “Contract Terms and Conditions Required to Implement Statutes or Executive Orders Applicable to Defense Acquisitions of Commercial Items.”

DATES: Effective Date: January 3, 2011.

FOR FURTHER INFORMATION CONTACT: Ms. Amy G. Williams, Defense Acquisition Regulations System, OUSD(AT&L)DPAP/DARS, Room 3B855, 3060 Defense Pentagon, Washington, DC 20301-3060. Telephone 703-602-0328; facsimile 703-602-0350.

SUPPLEMENTARY INFORMATION: DoD is making technical amendments to the Defense Federal Acquisition Regulation Supplement (DFARS) to add Alternate II in paragraph (b)(11)(iii) and to correct clause dates in paragraphs (b)(11) and (b)(14) of the clause at 252.212-7001, Contract Terms and Conditions Required to Implement Statutes or Executive Orders Applicable to Defense Acquisitions of Commercial Items. These errors occurred as a result of the final rule DFARS Case 2009-D012, published in the Federal Register on December 29, 2010.

List of Subjects in 48 CFR Part 252

Government procurement.

Clare M. Zebrowski,
Editor, Defense Acquisition Regulations System.

Therefore, 48 CFR part 252 is amended as follows:

PART 252—SOLICITATION PROVISIONS AND CONTRACT CLAUSES

1. The authority citation for 48 CFR part 252 continues to read as follows:

Authority: 41 U.S.C. 421 and 48 CFR chapter 1.

PART 252—SOLICITATION PROVISIONS AND CONTRACT CLAUSES

2. Amend section 252.212-7001 as follows:

252.212-7001 [Amended]

a. Revise the clause date in paragraph (b)(11)(i) by removing “(DEC 2010)” and adding in its place “(NOV 2009)”;

b. Revise the clause date in paragraph (b)(11)(ii) by removing “(DEC 2010)” and adding in its place “(SEP 2008)”;

c. Add paragraph (b)(11)(iii);

d. Revise the clause date in paragraph (b)(14)(i) by removing “(JUL 2009)” and adding in its place “(DEC 2010)”; and

e. Revise the clause date in paragraph (b)(14)(ii) by removing “(DEC 2010)” and adding in its place “(JUL 2009)”;

The revision reads as follows:

252.212-7001 Contract Terms and Conditions Required to Implement Statutes or Executive Orders Applicable to Defense Acquisitions of Commercial Items.

* * * * *

(b) * * *

(11) * * *

(iii) __ Alternate II (DEC 2010) of 252.225-7001.

* * * * *

[FR Doc. 2010-33092 Filed 12-30-10; 8:45 am]

BILLING CODE P